NUCLEAR REGULATORY COMMISSION

[NRC-2015-0224]

RIN 3150-AJ67

Advanced Power Reactor 1400 (APR1400) Design Certification

AGENCY: Nuclear Regulatory Commission.

ACTION: Notice of Office of Management and Budget approval of information collection.

SUMMARY: On May 22, 2019, the U.S. Nuclear Regulatory Commission (NRC) published a direct final rule to certify the Advanced Power Reactor 1400 (APR1400) standard design. The direct final rule contained changes to the information collections in NRC's regulation that needed approval from the Office of Management and Budget (OMB). This document provides notice that OMB has approved the information collection changes associated with the APR1400 direct final rule. The OMB Control Number is 3150-0236.

DATES: The information collection was approved by OMB on September 12, 2019.

ADDRESSES: Please refer to Docket ID NRC-2015-0224 when contacting the NRC about the availability of information regarding this document. You may obtain publicly-available information related to this document using any of the following methods:

• Federal Rulemaking Website: Go to https://www.regulations.gov and search for Docket ID NRC-2015-0224. Address questions about NRC dockets IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: David Cullison, Office of the Chief Information Officer, U.S. Nuclear Regulatory Commission, Washington, DC 20555-0001; telephone: 301-415-2084; email: David.Cullison@nrc.gov.

SUPPLEMENTARY INFORMATION: The NRC published a direct final rule for the certification of the Advanced Power Reactor 1400 (APR1400) standard plant design on May 22, 2019 (84 FR 23439). The direct final rule became effective on September 19, 2019. The direct final rule indicated that OMB had not yet approved the information collection requirements in the rule under the Paperwork Reduction Act of 1995 (PRA-95) (44 U.S.C. 3501-3520) and stated that an agency may not conduct or sponsor, and persons are not required to respond to, a collection of information that does not display a valid OMB control number, which OMB assigns upon approving an information collection. Consistent with the PRA-95 and OMB's PRA-95 implementing regulations in part 1320 of title 5 of the Code of Federal Regulations, the direct final rule stated that the NRC would publish another document in the Federal Register at a later date to provide notice of the effective date of the information collections in the rule or, if approval were denied, to provide notice of what action the NRC planned to take.

On July 2, 2019, the NRC submitted the APR1400—Design Certification information collection request for the direct final rule to OMB for approval in accordance with the PRA-95. On September 12, 2019, OMB approved the collections of information contained in the direct final rule and assigned the collections of information OMB Control

Number 3150-0236, titled “Information Collections Contained in the Appendix F to 10 CFR part 52 Design Certification Rule for the APR1400 Design.” The approval for collecting the information expires on September 30, 2022. Accordingly, the information collection requirements in the direct final rule are now in effect.

Dated at Rockville, Maryland, this 27th day of December, 2019.
For the Nuclear Regulatory Commission.
David C. Cullison,
NRC Clearance Officer, Office of the Chief Information Officer.

[FR Doc. 2019-28287 Filed 12-31-19; 8:45 am]

BILLING CODE 7590-01-P